DEPARTMENT OF COMMERCE

Foreign-Trade-Zones Board

[Docket 35-2004]

Foreign-Trade-Zone 87—Lake Charles, LA, Expansion of Manufacturing Authority—Subzone 87B, CITGO Petroleum Company, Lake Charles, LA

An application has been submitted to the Foreign-Trade-Zones Board (the Board) by the Lake Charles Harbor & Terminal District, grantee of FTZ 87, requesting authority on behalf of CITGO Petroleum Company (CITGO), to amend the boundaries of the subzone, add a site, and expand the scope of manufacturing activity conducted under zone procedures within Subzone 87B at the CITGO oil refinery complex in Lake Charles, Louisiana. The application was submitted pursuant to the provisions of the Foreign-Trade-Zones Act, as amended (19 U.S.C. 81a-81u), and the regulations of the Board (15 CFR part 400). It was formally filed on August 18, 2004.

Subzone 87B (320,000 BPD capacity 1,500 employees) was approved by the Board in 1989 for the manufacture of fuel products and certain petrochemical feedstocks and refinery by-products (Board Order 420, 54 FR 27660, 6/30/89, as amended by Board Order 760, 60 FR 41054, 8/11/95 and Board Order 1116, 65 FR 52696, 8/30/00).

The subzone, as updated, would consist of six sites on 3,420 acres in Calcasieu Parish, Louisiana: Site 1: (2,823 acres) main refinery complex, on the west bank of the Calcasieu River, three miles southwest of Lake Charles; Site 2: (22 acres) along the Calcasieu River, adjacent to Site 1; Site 3: (135 acres) Clifton Ridge Marine Terminal, along the Calcasieu River, south of Site 1; Site 4: (330 acres) CITGO Lubes and Waxes refinery, on Highway 108, north Site 1; Site 5: (6 acres) adjoining Highway 108, north of Site 1; Site 6: (104 acres) located to the east of Site 1, along the Calcasieu River.

The expansion request involves the construction of new crude and vacuum units that will increase the overall crude distillation capacity of the refinery to 465,000 BPD and allow for increased processing of heavy crudes. No additional feedstocks or products have been requested.

Zone procedures would exempt the new refinery units from Customs duty payments on the foreign products used in its exports. On domestic sales, the company would be able to choose the Customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is October 29, 2004. Rebuttal comments in response to material submitted during the foregoing period may be submitted during the subsequent 15-day period (to November 15, 2004.)

A copy of the application and accompanying exhibits will be available for public inspection at the Office of the Foreign-Trade-Zones Board's Executive Secretary at the first address listed above, and at U.S. Customs and Border Protection, 150 Marine St., Lake Charles, LA 70601.

Dated: August 18, 2004.
Dennis Puccinelli,
Executive Secretary.

[FR Doc. 04-19726 Filed 8-27-04; 8:45 am]

BILLING CODE 3510-DS-P